ENVIRONMENTAL PROTECTION AGENCY

[ER-FRL-9026-2]

Environmental Impact Statements; Notice of Availability

Responsible Agency: Office of Federal Activities, General Information (202) 564-7146 or http://www2.epa.gov/nepa.

Weekly receipt of Environmental Impact Statements (EISs)

Filed 03/14/2016 Through 03/18/2016,

Pursuant to 40 CFR 1506.9.

Notice

Section 309(a) of the Clean Air Act requires that EPA make public its comments on EISs issued by other Federal agencies. EPA's comment letters on EISs are available at: https://cdxnodengn.epa.gov/cdx-nepa-public/action/eis/search

EIS No. 20160063, Draft, BR, NM, Rio Grande Project, Continued Implementation of the 2008 Operating Agreement, Comment Period Ends: 05/09/2016, Contact: Rhea Graham 505-462-3560.

EIS No. 20160064, Draft, USACE, WA, Puyallup River Basin, Flood Risk Management General Investigation, Comment Period Ends: 05/09/2016, Contact: Scott Long 206-764-6697.

EIS No. 20160065, Final, WAPA, CA, San Luis Transmission Project, Review Period Ends: 04/25/2016, Contact: Donald Lash 916-353-4048.

Amended Notices

EIS No. 20160017, Draft, USFS, AK, Shoreline II Outfitter/Guide (formerly Shoreline II Outfitter and Guide Management Plan), Comment Period Ends: 04/25/2016, Contact: Carey Case 907-772-3871. Revision to FR Notice Published 01/29/2016, Extending Comment Period from 03/14/2016 to 04/25/2016.

EIS No. 20160021, Draft, USACE, NY, Mamaroneck and Sheldrake Rivers Flood Risk Management Village of Mamaroneck General Reevaluation, Comment Period Ends: 03/14/2016, Contact: Matthew Voisine 917-790-8718. Revision to FR Notice Published 01/29/2016, Extending Comment Period from 03/14/2016 to 03/30/2016.

EIS No. 20160037, Draft, USFS, WA, Colville National Forest Plan Revision, Comment Period Ends: 07/05/2016, Contact: Amy Dillon 509-684-7211. Revision to FR Notice Published 02/19/2016, Extending Comment Period from 05/19/2016 to 07/05/2016.

Dated: March 22, 2016.
Dawn Roberts,
Management Analyst, NEPA Compliance Division, Office of Federal Activities.

[FR Doc. 2016-06817 Filed 3-24-16; 8:45 am]

BILLING CODE 6560-50-P